ENVIRONMENTAL PROTECTION AGENCY

[ER-FRL-6628-3]

North Slope, Alaska: Preparation of an Environmental Impact Statement (EIS) on a Proposal To Develop Oil and Gas Reserves in or Near the Point Thomson Unit, Potentially Including Designation of Ocean Dredged Material Disposal Site(s)

AGENCY: Environmental Protection Agency (EPA) Region 10.

ACTION: Notice of intent.

FOR FURTHER INFORMATION AND TO BE PLACED ON THE PROJECT MAILING LIST CONTACT: John Malek, Sediment Management and Aquatic Resources Specialist, U.S. Environmental Protection Agency, Region 10, 1200 Sixth Avenue, ECO-083, Seattle, Washington, 98101, Phone (206) 553-1286, E-mail malek.john@epa.gov or Theodore L. Rockwell, Jr., Environmental Scientist, U.S. Environmental Protection Agency, Alaska Operations Office, 222 W Seventh Avenue, Box 19, Anchorage, AK 99513-7588, Phone (907) 271-3689, E-mail rockwell.theodore@epa.gov.

SUPPLEMENTARY INFORMATION: The ExxonMobil Production Company, a division of Exxon Mobil Corporation (ExxonMobil) and its partners, the Point Thomson Unit Owners, are proposing to develop oil and gas reserves in or near the Point Thomson Unit located approximately 46 miles east of Prudhoe Bay on the Beaufort Sea coast, in the State of Alaska, with the goal of production and transport of sales-quality gas condensate to the Trans-Alaska Pipeline System (TAPS). The Point Thomson Gas Cycling Project involves the cycling of gas in the high pressure Thomson Sands reservoir to recover liquid gas condensate. The axis of the Thomson Sands reservoir is roughly aligned with the lagoon system located immediately south of Flaxman Island and extends offshore to the northwest. ExxonMobil and its partners intend to develop this reservoir from onshore locations using extended reach drilling technology.

The proposed development may involve:

—Construction of ice roads;

—Development of gravel mine;

—Construction of gravel roads, pads, airstrip;

—Construction of a gravel fill dock extending into the Beaufort Sea;

—Dredging a channel to the dock from the open sea;

—Disposal, offshore, of the dredged material (ocean dumping);

—Construction of a pipeline system and connection to existing pipelines in other units;

—Construction of production facilities;

—Drilling production wells;

—Drilling underground waste injection wells;

—Operation of production facilities; and

—Abandonment following extraction of recoverable reserves.

Alternatives will be identified and evaluated throughout the Scoping and EIS process with a preferred alternative identified in the Draft EIS.

EPA has determined that the proposed project will or may require review, concurrence, permits or authorizations from EPA which has regulatory responsibility pursuant to a number of laws including the Marine Protection, Research, and Sanctuaries Act (MPRSA), National Environmental Policy Act (NEPA), Clean Water Act (CWA), Safe Drinking Water Act (SDWA), and Clean Air Act (CAA). Other permits and/or authorizations may be required from the U.S. Army Corps of Engineers (Corps), the National Marine Fisheries Service (NMFS), the Fish and Wildlife Service (FWS), State agencies, and the North Slope Borough.

Based upon our review of the proposed project and our understanding of both the regulatory needs for this and associated projects, EPA has determined that to most efficiently meet our NEPA compliance responsibilities, it is prudent to now begin an Environmental Impact Statement (EIS). EPA will be the lead agency for this effort and will invite all interested Federal agencies, tribal governments, State agencies, and the North Slope Borough to participate in the preparation of the EIS as they deem necessary for their needs. Letters to that effect already have been sent to the Federal agencies and the following have stated their intent to participate as a cooperating agency: U.S Army Corps of Engineers, Alaska District; U. S. Fish and Wildlife Service. State agencies, the North Slope Borough, Borough residents, and the general public will be contacted during the scoping process.

EPA anticipates the preparation of this EIS will be carried forward via a third-party contract process in which ExxonMobil works with EPA to acquire an independent third-party contractor to collect information, prepare the documents for Agency review, revision and acceptance.

Scoping: EPA expects to hold scoping meetings in Anchorage, Barrow, Nuiqsut, Kaktovik, Arctic Village, and Fairbanks. Further information about these meetings will be published locally or can be obtained by contacting the EPA as described above. A description of the project will be circulated prior to these meetings to help the public focus their scoping comments.

The draft EIS is tentatively scheduled for release to the public and agencies for review in mid-2003. The EPA plans to conduct a series of public meetings hearings after release of the draft EIS. Actual times and locations for the public hearings will be announced by advance public notice and local publications following release of the draft EIS.

L. John Iani,
Regional Administrator, Region 10.
Dated: April 15, 2002.
Anne Norton Miller,
Director, Office of Federal Activities.

[FR Doc. 02-9657 Filed 4-18-02; 8:45 am]

BILLING CODE 6560-50-P